FEDERAL TRADE COMMISSION

16 CFR Part 4

Miscellaneous Rules

AGENCY: Federal Trade Commission.

ACTION: Final rules; technical correction.

SUMMARY: The Federal Trade Commission published final rules on May 6, 2015, revising certain of its rules of practice. This document makes a technical correction to those final rules.

DATES: Effective October 8, 2015.

FOR FURTHER INFORMATION CONTACT: Josephine Liu, Attorney, (202) 326-2170, Office of the General Counsel, Federal Trade Commission, 600 Pennsylvania Avenue NW., Washington, DC 20580.

SUPPLEMENTARY INFORMATION: This document makes a technical correction to two cross-references in Rule 4.4(a)(3).

List of Subjects in 16 CFR Part 4

Administrative practice and procedure, Freedom of information, Public record.

Accordingly, 16 CFR part 4 is corrected by making the following correcting amendment:

PART 4—MISCELLANEOUS RULES

1. The authority citation for part 4 continues to read as follows:

Authority: 15 U.S.C. 46, unless otherwise noted.

§ 4.4 [Amended]

2. In § 4.4, amend the first sentence of paragraph (a)(3) by removing “section 20(c)(7) of the FTC Act” and adding in its place “section 20(c)(8) of the FTC Act” and by removing “section 20(c)(8) of the FTC Act” and adding in its place “section 20(c)(9) of the FTC Act”.

By direction of the Commission.
Donald S. Clark,
Secretary.

[FR Doc. 2015-25605 Filed 10-7-15; 8:45 am]

BILLING CODE 6750-01-P